DEPARTMENT OF COMMERCE

Submission for OMB Review; Comment Request

The Department of Commerce will submit to the Office of Management and Budget (OMB) for clearance the following proposal for collection of information under the provisions of the Paperwork Reduction Act.

Agency: U.S. Census Bureau.

Title: Census Employment Inquiry.

OMB Control Number: 0607-0139.

Form Number(s): BC-170, BC-170(SP), BC-171, and BC-171(SP).

Type of Request: Revision of a currently approved collection.

Number of Respondents: 3,000,000 respondents for the 3-year period. (1,000,000 respondents annually).

Average Hours per Response: 20 min between both forms—15 minutes for completing the BC-170 and 5 minutes for completing the BC-171.

Burden Hours: 1,000,000 burden hours for the 3-year period (333,334 burden hours annually).

Needs and Uses: Application for benefits.

Affected Public: Individuals or households.

Frequency: One time.

Respondent's Obligation: Required to obtain or retain benefits.

Legal Authority: Title 13 U.S.C., Chapter 1, Subchapter II, Section 23 a and c.; Title 5 U.S.C., Part II, Chapter 13; Title 5 U.S.C. Part III, Chapter 33, Subchapter 1, Section 1 and 20.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental Lead PRA Officer, Office of the Chief Information Officer.

[FR Doc. 2018-13890 Filed 6-27-18; 8:45 am]

BILLING CODE 3510-07-P